DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of the information collection listed at the end of this notice. Comments are invited on: (a) Whether the extended information collections are necessary for the proper performance of the functions of the agency, including whether the information has practical utility; (b) the accuracy of the agency's estimate of the burden of the information collections, including the validity of the methodology and assumptions used; (c) ways to enhance the quality, utility, and clarity of the information to be collected; and (d) ways to minimize the burden of the information collections on respondents, including through the use of automated collection techniques or other forms of information technology.

DATES: Comments regarding this collection must be received on or before August 7, 2006. If you anticipate that you will be submitting comments, but find it difficult to do so within the period of time allowed by this notice, please advise the OMB Desk Officer of your intention to make a submission as soon as possible. The Desk Officer may be telephoned at 202-395-4650.

ADDRESSES: Written comments should be sent to: Jeffrey Martus, IM-11/Germantown Building, U.S. Department of Energy, 1000 Independence Ave, SW., Washington, DC 20585-1290; or by fax at 301-903-9061 or by e-mail at Jeffrey.martus@hq.doe.gov.

FOR FURTHER INFORMATION CONTACT: Requests for additional information or copies of the information collection instrument and instructions should be directed to Jeffrey Martus at the address listed above in ADDRESSES.

SUPPLEMENTARY INFORMATION: The information collection package listed in this notice for public comment include the following:

(1) OMB No.: 1910-1000.

(2) Package Title: Personal Property.

(3) Type of Review: Renewal.

(4) Purpose: This information collection provides the Department with the information necessary for the management, control, reutilization, and disposal of government personal property.

(5) Respondents: 176.

(6) Estimated Number of Burden Hours: 3,960.

Statutory Authority: Department of Energy Organization Act, Public Law 95-91.

Issued in Washington, DC on June 28, 2006.
Sharon A. Evelin,
Director, Records Management Division, Office of the Chief Information Officer.

[FR Doc. E6-10561 Filed 7-5-06; 8:45 am]

BILLING CODE 6450-01-P